COMMITTEE FOR THE IMPLEMENTATION OF TEXTILE AGREEMENTS

Exemption from Category 647/648 of Ski and Snowboard Pants Manufactured in the People's Republic of China

October 26, 2005.

AGENCY: Committee for the Implementation of Textile Agreements (CITA).

ACTION: Issuing a directive to the Commissioner, Customs and Border Protection, to not subject ski and snowboard pants to limits on category 647/648 and to release them from the current embargo for goods manufactured in the People's Republic of China.

EFFECTIVE DATE: November 1, 2005.

FOR FURTHER INFORMATION CONTACT: Philip J. Martello, Director, Trade and Data Division, Office of Textiles and Apparel, U.S. Department of Commerce, (202) 482-3400.

SUPPLEMENTARY INFORMATION:

Authority: Section 204 of the Agriculture Act of 1956 (7 U.S.C. 1854); Executive Order 11651, 37 Fed. Reg. 4699 (Mar. 3, 1972), as amended.

CITA has determined that certain imports of ski and snowboard pants from China do not contribute to the market disruption found in category 647/648 goods. CITA based this determination on its belief that these ski and snowboard pant imports of Chinese origin were not, due to market disruption, threatening to impede the orderly development of trade in these products. Specifically, CITA determined that ski/snowboard pants should not be covered by the 2005 safeguard quota. CITA has received new information indicating that there is minimal domestic production of the ski/snowboard pants products; the ski/snowboard pants products are seasonal products with limited end-use; the ski/snowboard pants products account for de minimis import quantities; thus, the exclusion does not undermine the market disruption finding or require the readjustment of the quota calculation; and the ski/snowboard pants products are easily definable in the HTS schedule for enforcement purposes and the specificity of the definition ensures that this provision will apply only to those items that meet the narrow parameters established in the tariff items and in the statistical note of the Harmonized Tariff Schedule of the United States (HTSUS).

The HTSUS has been modified to establish a new statistical note for ski/snowboard pants applicable to HTSUS items 6203.43.3510, 6204.63.3010, 6210.40.5031, and 6210.50.5031. Ski and snowboard pants can also be imported as parts of ski suits, classified under HTSUS items 6211.20.1525 and 6211.20.1555.

Effective on November 1, 2005, for goods produced or manufactured in the People's Republic of China, that meet the definition of ski/snowboard pants, provided below, classified in HTSUS items 6203.43.3510, 204.63.3010, 6210.40.5031, and 6210.50.5031, and trousers imported as parts of ski-suits classified under HTSUS items 6211.20.1525 and 6211.20.1555, CITA is directing the Commissioner, Customs and Border Protection, to not subject these products to restrictions established for category 647/648 in 2005 and to allow entry of such goods no longer subject to the embargo currently in effect for category 647/648 goods.

Definition:

For the purposes of subheadings 6203.43.3510, 6204.63.3010, 6210.40.5031, and 6210.50.5031:

The term “ski/snowboard pants” means ankle-length pants made of synthetic fabrics, with or without insulation for cold weather protection, with zippered or hook and loop enclosed pockets, sealed seams and hidden elastic leg sleeves, and with one or more of the following: side openings, scuff guards or reinforcement in the seat. A sealed seam is one that has been covered, on the backside of the fabric, with tape or a coating to “bridge” the seam so that air and water cannot pass through. The tape or coating may be applied using heat and/or pressure.

James C. Leonard III,
Chairman, Committee for the Implementation of Textile Agreements.

Committee for the Implementation of Textile Agreements

October 26, 2005.

Commissioner,

Bureau of Customs and Border Protection, Washington, DC 20229.

Dear Commissioner: On May 26, 2005, the Chairman of the Committee for the Implementation of Textile Agreement (CITA) issued a directive to you to establish an import limit on man-made fiber trousers (category 647/648), produced or manufactured in the People's Republic of China and exported during the period beginning on May 27, 2005 and extending through December 31, 2005. The limit established for these products was fully utilized on August 3, 2005.

Effective on November 1, 2005, you are directed to exempt from the 2005 restraint established for category 647/648 goods manufactured in China, goods that meet the definition of ski/snowboard pants, provided below, classified in items 6203.43.3510, 6204.63.3010, 6210.40.5031, and 6210.50.5031 of the Harmonized Tariff Schedule of the United States and trousers imported as parts of ski-suits, classified in items 6211.20.1525 and 6211.20.1555. You are further directed to release from the embargo on category 647/648 and allow entry of such ski and snowboard pants, produced or manufactured in the People's Republic of China and entered for consumption or withdrawn from warehouse for consumption into the United States on and after November 1, 2005.

Definition:

For the purposes of headings 6203.43.3510, 6204.63.3010, 6210.40.5031, and 6210.50.5031:

The term “ski/snowboard pants” means ankle-length pants made of synthetic fabrics, with or without insulation for cold weather protection, with zippered or hook and loop enclosed pockets, sealed seams and hidden elastic leg sleeves, and with one or more of the following: side openings, scuff guards or reinforcement in the seat. A sealed seam is one that has been covered, on the backside of the fabric, with tape or a coating to “bridge” the seam so that air and water cannot pass through. The tape or coating may be applied using heat and/or pressure.

The Committee for the Implementation of Textile Agreements has determined that this action falls within the foreign affairs exception to the rulemaking provisions of 5 U.S.C. 553(a)(1).

Sincerely,

James C. Leonard III,

Chairman, Committee for the Implementation of Textile Agreements.

[FR Doc. 05-21689 Filed 10-27-05; 10:33 am]

BILLING CODE 3510-DS